SURFACE TRANSPORTATION BOARD

[Docket No. EP 290 (Sub-No. 5) (2020-2)]

Quarterly Rail Cost Adjustment Factor

AGENCY: Surface Transportation Board.

ACTION: Approval of rail cost adjustment factor.

SUMMARY: The Board has approved the second quarter 2020 Rail Cost Adjustment Factor (RCAF) and cost index filed by the Association of American Railroads. The second quarter 2020 RCAF (Unadjusted) is 1.051. The second quarter 2020 RCAF (Adjusted) is 0.442. The second quarter 2020 RCAF-5 is 0.417.

DATES: Applicability Date: April 1, 2020.

FOR FURTHER INFORMATION CONTACT: Pedro Ramirez, (202) 245-0333. Assistance for the hearing impaired is available through the Federal Relay Service at (800) 877-8339.

SUPPLEMENTARY INFORMATION: Additional information is contained in the Board's decision, which is available on our website at www.stb.gov.

Decided: March 17, 2020.
By the Board, Board Members Begeman, Fuchs, and Oberman.
Regena Smith-Bernard,
Clearance Clerk.

[FR Doc. 2020-06042 Filed 3-20-20; 8:45 am]

BILLING CODE 4915-01-P